SOCIAL SECURITY ADMINISTRATION

20 CFR Part 404

RIN 0960-AG39

Extension of the Expiration Date for the Digestive Listings

AGENCY: Social Security Administration (SSA).

ACTION: Final rule.

SUMMARY: We use the Listing of Impairments (the listings) in appendix 1 to subpart P of this part, at the third step of the sequential evaluation process when we evaluate your claim for benefits based on disability under title II and title XVI of the Social Security Act (the Act). This final rule extends until July 2, 2007, the date on which the listings for the digestive system will no longer be effective.

Other than extending the date during which the digestive listings will be effective, we have made no revisions to the listings; they remain the same as they now appear in the Code of Federal Regulations. This extension will ensure that we continue to have medical evaluation criteria in the listings to adjudicate disability claims in this body system at the third step of the sequential evaluation process.

DATES: This final rule is effective on May 5, 2006.

Electronic Version

The electronic file of this document is available on the date of publication in the Federal Register at http://www.gpoaccess.gov/fr/index.html.

FOR FURTHER INFORMATION CONTACT: Cathy Lively, Team Leader, Social Insurance Specialist, Office of Disability Programs, 107 Altmeyer Building, 6401 Security Boulevard, Baltimore, MD 21235-6401, (410) 966-1180 or TTY (410) 966-5609. For information on eligibility or filing for benefits, call our national toll-free number, 1-800-772-1213 or TTY 1-800-325-0778, or visit our Internet Web site, Social Security Online, at http://www.socialsecurity.gov.

SUPPLEMENTARY INFORMATION: We use the listings at the third step of the sequential evaluation process to evaluate claims filed by adults and children for benefits based on disability under the title II and title XVI programs. The listings are in two parts. There are listings for adults (part A) and for children (part B). If you are an individual age 18 or over, we apply the listings in part A when we assess your claim, and we never use the listings in part B. If you are an individual under age 18, we first use the criteria in part B of the listings. If the listings in part B do not apply and the specific disease process(es) has a similar effect on adults and children, we then use the criteria in part A (see 20 CFR 404.1525 and 416.925).

As a result of medical advances in disability evaluation and treatment, as well as our program experience, we periodically review and update the listings. On November 14, 2001, we published a Notice of Proposed Rulemaking (NPRM) in the Federal Register (66 FR 57009) that proposed revisions to the digestive system listings. On April 24, 2002, we published final rules, entitled “Technical Revisions to Medical Criteria for Determinations of Disability” (67 FR 20018), which incorporated minor technical changes to the digestive listings to include references to modern imaging techniques and added listings 5.09 and 105.09 for liver transplantation. On November 8, 2004, we published a notice providing a 60-day extension of the comment period on the NPRM for the limited purpose of accepting comments regarding chronic liver disease (69 FR 64702). We then held an outreach meeting in Cambridge, Massachusetts on November 14, 2004, regarding our listings for chronic liver disease. Finally, in final rules published on June 16, 2005 (68 FR 36911), we extended the expiration date for the digestive system listings until July 3, 2006.

We intend to publish final rules to update the digestive listings as expeditiously as possible; however, we will not be able to publish revised listings for the digestive body systems by July 3, 2006, the current expiration date. Therefore, in this final rule, we are extending the current expiration date for the digestive listings until July 2, 2007.

Regulatory Procedures

Justification for Final Rule

Pursuant to section 702(a)(5) of the Social Security Act, 42 U.S.C. 902(a)(5), we follow the Administrative Procedure Act (APA) rulemaking procedures specified in 5 U.S.C. 553 in the development of regulations. The APA provides exceptions to its notice and public comment procedures when an agency finds there is good cause for dispensing with such procedures on the basis that they are impracticable, unnecessary, or contrary to the public interest. We have determined that, under 5 U.S.C. 553(b)(B), good cause exists for dispensing with the notice and public comment procedures for this rule, because this final rule only extends the date on which the digestive listings will no longer be effective. It makes no substantive changes to those listings. The current regulations expressly provide that listings may be extended, as well as revised and promulgated again. Therefore, we have determined that opportunity for prior comment is unnecessary, and we are issuing this regulation as a final rule.

In addition, we find good cause for dispensing with the 30-day delay in the effective date of a substantive rule, as provided for by 5 U.S.C. 553(d). As explained above, we are not making any substantive changes in the digestive body system listings. However, without an extension of the expiration dates for these listings, we will lack regulatory criteria for assessing impairments of the digestive system at the third step of the sequential evaluation process. In order to ensure that we continue to have regulatory criteria for assessing impairments under these listings, we find that it is in the public's interest to make this final rule effective on the date of publication.

Executive Order 12866

We have consulted with the Office of Management and Budget (OMB) and determined that this final rule does not meet the criteria for a significant regulatory action under Executive Order 12866, as amended by Executive Order 13258. We have also determined that this final rule meets the plain language requirement of Executive Order 12866, as amended by Executive Order 13258.

Regulatory Flexibility Act

We certify that this final rule will not have a significant economic impact on a substantial number of small entities because it affects only individuals. Therefore, a regulatory flexibility analysis, as provided in the Regulatory Flexibility Act, as amended, is not required.

Paperwork Reduction Act

This final rule imposes no reporting/recordkeeping requirements necessitating clearance by OMB.

(Catalog of Federal Domestic Assistance Program Nos. 96.001, Social Security—Disability Insurance; 96.002, Social Security—Retirement Insurance; 96.004, Social Security—Survivors Insurance; 96.006, Supplemental Security Income)

List of Subjects in 20 CFR Part 404

Administrative practice and procedure, Blind, Disability benefits, Old-Age, Survivors and Disability Insurance, Reporting and recordkeeping requirements, Social Security.

Dated: May 1, 2006.
Jo Anne B. Barnhart,
Commissioner of Social Security.

For the reasons set forth in the preamble, part 404, subpart P, chapter III of title 20 of the Code of Federal Regulations is amended as set forth below.

PART 404—FEDERAL OLD-AGE, SURVIVORS AND DISABILITY INSURANCE (1950- )

Subpart P—[Amended]

1. The authority citation for subpart P of part 404 continues to read as follows:

Authority: Secs. 202, 205(a), (b), and (d)-(h), 216(i), 221(a) and (i), 222(c), 223, 225, and 702(a)(5) of the Social Security Act (42 U.S.C. 402, 405(a), (b), and (d)-(h), 416(i), 421(a) and (i), 422(c), 423, 425, and 902(a)(5)); sec. 211(b), Pub. L. 104-193, 110 Stat. 2105, 2189.

2. Appendix 1 to subpart P of part 404 is amended by revising item 6 of the introductory text before part A to read as follows:

Appendix 1 to Subpart P of Part 404—Listing of Impairments

* * * * *

6. Digestive System (5.00 and 105.00): July 2, 2007.

* * * * *

[FR Doc. 06-4242 Filed 5-4-06; 8:45 am]

BILLING CODE 4191-02-P